DEPARTMENT OF COMMERCE

International Trade Administration

U.S. Education Mission to Africa: South Africa and Ghana (Optional Stop to Cote d'Ivoire); March 6-12, 2016

AGENCY: International Trade Administration, Department of Commerce.

ACTION: Notice.

SUMMARY: The United States Department of Commerce, International Trade Administration, is organizing an education mission to South Africa and Ghana with an optional stop in the Côte d'Ivoire. Department of Commerce is partnering with the Department of State's EducationUSA Advising Centers in each location. This trade mission will be led by a senior Department of Commerce official and the emphasis will be on higher education programs, community college programs and summer, undergraduate and graduate programs, or consortia/associations of U.S. educational institutions offering said programs.

This mission will seek to connect U.S. higher education institutions to potential students and university/institution partners in these three African countries. The mission will include student fairs organized by Education USA, embassy briefings, site visits, and networking events in our target cities of Johannesburg, Accra, and Abidjan. Participation in the Education Mission to these nations, rather than traveling independently to each market, will enhance the ability of participants to secure appropriate meetings with productive contacts in the target markets.

This mission is intended to include representatives from a variety of accredited U.S. education institutions and consortia/associations representing groupings of U.S. accredited education institutions.

Summer programs seeking to participate should be appropriately accredited by an accreditation body recognized by the U.S. Department of Education. Community colleges, undergraduate and graduate programs seeking to participate should be accredited by a recognized accreditation body listed in Council for Higher Education Accreditation (CHEA) or Accrediting Council for Education and Training (ACCET), in the Association of Specialized and Professional Accreditors (ASPA), or any accrediting body recognized by the U.S. Department of Education.

The delegation will include representatives from approximately 25 different educational institutions or consortia/associations.

Schedule
Sunday March 6, 2016 | • Arrive in Johannesburg • Check into hotel
Monday March 7, 2016 | • Welcome and Briefing from the U.S. and Foreign Commercial Service
| • Meeting with South African Government Education Leaders
| • Visit to Schools
| • Networking Reception
Tuesday March 8, 2016 | • Education Fair
Wednesday March 9, 2016 | • Visit to Africa Leadership Academy • Additional Meetings with Schools
| • Travel to Accra
Thursday March 10, 2016 | • Travel Recovery • Welcome and Briefing from the U.S. and Foreign Commercial Service
| • Education Fair
| • Reception at U.S. Ambassador's Residence
Friday March 11, 2016 | • Visit to Schools (Accra) • Depart for Abidjan, Cote d'Ivoire for optional stop or return to United States on own itinerary
| • Arrive in Abidjan in afternoon
| • Evening Reception
Saturday March 12, 2016 | • Welcome and Briefing from the U.S. Department of State (EducationUSA)
| • Brunch with Local Schools and University Directors
| • Education Fair: 12:30-6:00 PM
| • Reception with Dinner and Cultural Show
Monday March 13, 2016 | • Optional cultural excursion for those who can stay
| • Departure to the United States (most flights depart in the afternoon or evening)

Web site: Please visit our official mission Web site for more information: http://www.export.gov/trademissions/.

Participation Requirements

All parties interested in participating in the Education Trade Mission to Africa must complete and submit an application package for consideration by the Department of Commerce. All applicants will be evaluated on their ability to meet certain conditions and best satisfy the selection criteria as outlined below. The mission will open on a rolling basis to a minimum of 20 and a maximum of 25 appropriately accredited U.S. educational institutions. U.S. educational institutions (or associations/consortia thereof) already recruiting in Africa, as well as U.S. education institutions seeking to enter the African market for the first time, may apply.

Fees and Expenses

After an institution has been selected to participate on the mission, a payment to the Department of Commerce in the form of a participation fee is required. The participation fee is $2,800 for one principal representative from each non-profit educational institution or educational institution with fewer than 500 employees and $3,300 for for-profit universities with over 500 employees. An institution can choose to participate in the optional stop in Cote d'Ivoire for an additional $1,800 for one principal representative from each non-profit educational institution or educational institution with fewer than 500 employees and $1,900 for for-profit universities with over 500 employees. The fee for each additional representative is $600. Expenses for lodging, some meals, incidentals, and all travel (except for transportation to and from airports in-country, previously noted) will be the responsibility of each mission participant. The U.S. Department of Commerce can facilitate government rates in some hotels.

Application

All interested firms and associations may register via the following link: http://emenuapps.ita.doc.gov/ePublic/TM/6R0R.

Exclusions

The mission fee does not include any personal travel expenses such as lodging, most meals, local ground transportation, except as stated in the proposed agenda, and air transportation from the United States to the mission site and return to the United States.

Timeline for Recruitment and Applications

Mission recruitment will be conducted in an open and public manner, including publication in the Federal Register, posting on the Commerce Department trade mission calendar (http://export.gov/industry/education/) and other Internet Web sites, press releases to general and trade media, direct mail, notices by industry trade associations and other multiplier groups, and publicity at industry meetings, symposia, conferences, and trade shows. Recruitment for the mission will begin immediately and conclude no later than January 15, 2016. Applications for the mission will be accepted on a rolling basis. Applications received after January 15, 2016, will be considered only if space and scheduling constraints permit.

Conditions for Participation

An applicant must submit a timely, completed and signed mission application and supplemental application materials, including adequate information on course offerings, primary market objectives, and goals for participation. The institution or institutional members of consortia/associations must have appropriate accreditation as specified per paragraph one above.

The institution/consortium/association must be represented at the student fair by an employee of an accredited U.S. educational institution or association/consortium. No agents will be allowed to represent a school on the mission or participate at the student fair. Agents will also not be allowed into the fairs to solicit new partnerships. If the Department of Commerce receives an incomplete application, the Department may reject the application, request additional information, or take the lack of information into account when evaluating the applications.

Participants must travel to both stops in South Africa and Ghana on the mission. Côte d'Ivoire is the only optional stop.

Each applicant must certify that the services it seeks to export through the mission are either produced in the United States, or, if not, marketed under the name of a U.S. firm and have at least 51 percent U.S. content of the value of the service.

FOR FURTHER INFORMATION CONTACT:

Jennifer Woods, Senior International Trade Specialist, U.S Commercial Service, Portland, Oregon, Tel: (503) 326-5290, Email: jennifer.woods@trade.gov.

Jeffrey Goldberg, Industry & Analysis, Office of Trade Promotion Programs, Washington, DC, Tel: (202) 482-1706, Email: jeffrey.goldberg@trade.gov.

Frank Spector,
Acting Director, Trade Missions Program.

[FR Doc. 2015-31584 Filed 12-15-15; 8:45 am]

BILLING CODE 3510-DR-P